DEPARTMENT OF AGRICULTURE

Food Safety and Inspection Service

9 CFR Parts 300, 441, 530, 531, 532, 533, 534, 537, 539, 540, 541, 544, 548, 550, 552, 555, 557, 559, 560, and 561

[Docket No. FSIS-2016-0009]

Educational Meetings on the Final Rule on Mandatory Inspection of Fish of the Order Siluriformes and Products Derived From Such Fish; Educational Meetings for Importers Inspection

AGENCY: Food Safety and Inspection Service, USDA.

ACTION: Notification of educational meetings.

SUMMARY: The Food Safety and Inspection Service (FSIS) is announcing a series of educational meetings to discuss the Final Rule, FSIS Docket No. FSIS-2008-0031, “Mandatory Inspection of Fish of the Order Siluriformes and Products Derived from Such Fish,” as it pertains to importers. The meetings are scheduled for March 2016.

DATES: The meetings are scheduled as follows:

• The first meeting will be held in Newark, NJ on Tuesday, March 3, 2016; 1:00 p.m.-4:00 p.m. ET, at the Rutgers University—Newark, School of Public Affairs, The Great Hall, 15 Washington Street, Newark, NJ 07102. For directions and parking instructions please visit: https://www.newark.rutgers.edu/directions-and-parking.

• The second meeting will be held in Los Angeles, CA on Tuesday, March 17, 2016; 1:00 p.m.-4:00 p.m. PT, at the Hilton Los Angeles Airport, 5711 W. Century Boulevard, Los Angeles, CA 90045.

• The third meeting will be held in Houston, TX on Tuesday, March 24, 2016; 1:00 p.m.-4:00 p.m. CT, at the Hilton Houston North, 12400 Greenspoint Drive, Houston, TX 77060.

If there is sufficient interest, meetings may also be held in Miami, FL and Norfolk, VA. The objective of the meetings is to provide information to importers on bringing Siluriformes fish and fish products into the United States. Further information on these meetings will be posted on the FSIS Web site at: http://www.fsis.usda.gov/wps/portal/fsis/newsroom/meetings and through the FSIS Constituent Update.

FOR FURTHER INFORMATION CONTACT: Evelyn Gomez, Office of Outreach, Employee Education and Training, (202) 418-8903 or email at Evelyn.Gomez@fsis.usda.gov, regarding additional information about this meeting or to arrange for special accommodations. The final rule may be accessed from the FSIS Web site at: http://www.fsis.usda.gov/wps/portal/fsis/topics/regulations/federal-register/interim-and-final-rules.

Registration: To pre-register for the meetings, including Miami, FL and Norfolk, VA, please go to http://www.fsis.usda.gov/wps/portal/fsis/newsroom/meetings. The cutoff dates for pre-registration are as follows:

• Newark, NJ: Tuesday, March 1, 2016

• Los Angeles, CA: Tuesday, March 15, 2016

• Houston, TX: Tuesday, March 22, 2016

• Miami, FL and Norfolk, VA: Tuesday, March 22, 2016

Questions regarding the mandatory inspection of fish of the order Siluriformes and products derived from such fish may be directed to AskFish@fsis.usda.gov.

SUPPLEMENTARY INFORMATION:

Background

On December 2, 2015 (80 FR 75590), FSIS published the final rule to establish a mandatory inspection program for fish of the order Siluriformes and products derived from these fish. The final regulations implement the provisions of the 2008 and 2014 Farm Bills, which amended the Federal Meat Inspection Act, mandating FSIS inspection of Siluriformes fish and fish products.

On March 1, 2016, the final rule on Siluriformes fish and fish products goes into effect. By this date, foreign countries seeking to continue exporting Siluriformes fish and fish products to the United States during an 18-month transitional period are required to submit documentation showing that they have laws or other legal measures in place that provide authority to regulate the growing and processing of fish for human food and to assure compliance with the United States Department of Health and Human Services' Food and Drug Administration (FDA) regulatory requirements in 21 CFR 123, Fish and Fishery Products. The foreign countries are also required to submit lists of establishments that currently export and will continue to export Siluriformes fish and fish products to the United States.

Foreign countries seeking to continue to export Siluriformes fish and fish products to the United States after the transitional period has expired are required to submit to FSIS, by September 1, 2017, adequate documentation showing the equivalence of their Siluriformes inspection systems with that of the United States. Foreign countries submitting such documentation by the deadline are permitted to continue exporting Siluriformes fish and fish products to the United States while FSIS undertakes an evaluation as to equivalency.

The purpose of the educational meetings for importers is to provide information on the final rule's requirements, with a primary focus on the process for importing Siluriformes fish and fish products into the United States during the 18-month transitional period and on the date of full enforcement. Other topics presented will include the labeling requirements for imported Siluriformes fish and fish products, the FSIS sampling of these imported products, and the enforcement of the requirements.

For more information on the mandatory inspection of Siluriformes fish and fish products, visit the FSIS Web site: http://www.fsis.usda.gov/wps/portal/fsis/topics/inspection/siluriformes.

Register

Those planning to attend the meetings are invited to pre-register. To pre-register for any of the meetings, including Miami, FL and Norfolk, VA, please go to CatfishRegistration@fsis.usda.gov. Persons requiring sign language accommodations should contact Ms. Evelyn Gomez 15 business days prior to the meeting.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC on: February 18, 2016.
Alfred V. Almanza,
Acting Administrator.

[FR Doc. 2016-03727 Filed 2-23-16; 8:45 am]

BILLING CODE 3410-DM-P